DEPARTMENT OF AGRICULTURE

Rural Housing Service

Announcement of Funding To Develop Essential Community Facilities in Rural Communities for Eligible Public Entities, Nonprofit Corporations, and Tribal Governments With Extreme High Unemployment and Severe Economic Depression

AGENCY: Rural Housing Service, USDA.

ACTION: Notice.

SUMMARY: The Rural Housing Service (RHS) announces the availability of $47.5 million in National competitive grant funds to be administered in accordance with this Notice, 7 U.S.C. 1926(a)(20), and the Community Facilities grant program (7 CFR part 3570, subpart B) to develop essential community facilities in rural communities with extreme high unemployment and severe economic depression. An additional $2.5 million is available for community planning and implementation related to these essential community facilities.

DATES: Applications may be submitted at any time until funds are exhausted.

ADDRESSES: Entities wishing to apply for assistance are encouraged to contact their local USDA Rural Development office for guidance on the intake and processing of preapplications.

A listing of Rural Development State offices, their addresses, telephone numbers, and a person to contact follows:

Note: Telephone numbers listed are not toll-free.

Alabama State Office, Suite 601, Sterling Centre, 4121 Carmichael Road, Montgomery, AL 36106-3683, 334-279-3400, Chris Harmon

Alaska State Office, 800 W. Evergreen, Suite 201, Palmer, AK 99645-6539, 907-761-7705, Merlaine Kruse

Arizona State Office, Phoenix Corporate Center, 3003 North Central Avenue, Suite 900, Phoenix, AZ 85012-2906, 602-280-8700, Leonard Gradillas

Arkansas State Office, 700 W. Capitol Avenue, Room 3416, Little Rock, AR 72201-3225, 501-301-3200, Jesse G. Sharp

California State Office, 430 G Street, #4169, Davis, CA 95616-4169, 530-792-5800, Robert Longman

Colorado State Office, 655 Parfet Street, Room E100, Lakewood, CO 80215, 303-236-2801, Leroy Cruz

Delaware State Office,* 4607 S. DuPont Highway, P.O. Box 400, Camden, DE 19934-9998, 302-697-4300, Arthur Greenwood

* The Delaware State Office also administers the Maryland program.

Florida State Office,* 4440 N.W. 25th Place, P.O. Box 147010, Gainesville, FL 32614-7010, 352-338-3400, Glenn W. Walden

* The Florida State Office also administers the Virgin Islands program.

Georgia State Office, Stephens Federal Building, 355 E. Hancock Avenue, Athens, GA 30601-2768, 706-546-2162, Jerry Thomas

Hawaii State Office, Room 311, Federal Building, 154 Waianuenue Avenue, Hilo, HI 96720, 808-933-8380, Thao Khamoui

Idaho State Office, 9173 W. Barnes Drive, Suite A1, Boise, ID 83709, 208-378-5600, Dan Fraser

Illinois, Illini Plaza, Suite 103, 1817 South Neil Street, Champaign, IL 61820, 217-398-5235, Gerald Townsend

Indiana State Office, 5975 Lakeside Boulevard, Indianapolis, IN 46278, 317-290-3100, Gregg Delp

Iowa State Office, 873 Federal Building, 210 Walnut Street, Des Moines, IA 50309, 5150284-4663, Dorman A. Otte

Kansas State Office, 1200 SW Executive Drive, P.O. Box 4653, Topeka, KS 66604, 785-271-2700, Gary Smith

Kentucky, Suite 200, 771 Corporate Drive, Lexington, KY 40503, 859-224-7300, Vernon C. Brown

Louisiana State Office, 3727 Government Street, Alexandria, LA 71302, 318-473-7920, Danny Magee

Maine State Office, 967 Illinois Avenue, Suite 4, P.O. Box 405, Bangor, ME 04402-0405, 207-990-9106, Alan Daigle

Massachusetts State Office,* 967 Illinois Ave., Suite 4, 451 West Street, Amherst, MA 01002, 413-253-4300, Daniel Beaudette

* The Massachusetts State Office, also administers the Rhode Island and Connecticut programs.

Michigan State Office, 3001 Coolidge Road, Suite 200, East Lansing, MI 48823, 517-324-5100, Philip H. Wolak

Minnesota State Office, 410 AgriBank Building, 375 Jackson Street, St. Paul, MN 55101-1853, 651-602-7800, James Maras

Mississippi State Office, Federal Building, Suite 831, 100 W. Capitol, Jackson, MS 39269, 601-965-4316, Darnella Smith-Murray

Missouri State Office, 601 Business Loop, 70 West, Parkade Center, Suite 235, Columbia, MO 65203, 573-876-0976, Randall L. Griffith

Montana State Office, Unit 1, Suite B, P.O. Box 850, 900 Technology Boulevard, Bozeman, MT 59715, 406-585-2580, Mary Lou Affleck

Nebraska State Office, Federal Building, Room 152, 100 Centennial Mall N, Lincoln, NE 68508, 402-437-5551, Denise Brosius-Meeks

Nevada State Office, 1390 South Curry Street, Carson City, NV 89703-9910, 775-887-1222, Mike Holm

New Hampshire State Office, 10 Ferry Street, Concord Center, P.O. Box 317, Concord, NH 03301, 603-223-6034, William Konrad

New Jersey State Office, Tarnsfield Plaza, Suite 22, 790 WoodLane Road, Mt. Holly, NJ 08060, 609-265-3600, Michael P. Kelsey

New Mexico State Office, 6200 Jefferson Street NE, Room 255, Albuquerque, NM 87109, 505-761-4950, Clyde Hudson

New York State Office, The Galleries of Syracuse, 441 S. Salina Street, Suite 357, Syracuse, NY 13202-2541, 315-477-6400, Gail Giannotta

North Carolina State Office, 4405 Bland Road, Suite 260, Raleigh, NC 27609, 919-873-2000, Phyllis Godbold

North Dakota State Office, Federal Building, Room 208, 220 East Rosser, P.O. Box 1737, Bismarck, ND 58502-1737, 701-530-2037, Don Warren

Ohio State Office, Federal Building, Room 507, 200 North High Street, Columbus, OH 43215-2418, 614-255-2400, David Douglas

Oklahoma State Office, 100 USDA, Suite 108, Stillwater, OK 74074-2654, 405-742-1000, Rock W. Davis

Oregon, 101 SW Main, Suite 1410, Portland, OR 97204-3222, 503-414-3300, Bill Daniels

Pennsylvania State Office, One Credit Union Place, Suite 330, Harrisburg, PA 17110-2996, 717-237-2299, Gary Rothrock

Puerto Rico State Office, IBM Building, Suite 601, 654 Munos Rivera Avenue, Hato Rey, PR 00918-6106, 787-766-5095, Pedro Gomez

South Carolina State Office, Strom Thurmond Federal Bldg., 835 Assembly Street, Room 1007, Columbia, SC 29102, 803-765-5163, Larry Floyd

South Dakota State Office, Federal Building, Room 210, 200 Fourth Street SW., Huron, SD 57350, 605-352-1100, Dwight Wullweber

Tennessee State Office, Suite 300, 3322 West End Avenue, Nashville, TN 37203-1084, 615-783-1300, Keith Head

Texas State Office, Federal Building, Suite 102, 101 South Main, Temple, TX 76501, 254-742-9700, Mike Meehan

Utah State Office, Wallace F. Bennett, Federal Building, 125 S. State Street, Rm. 4311, P.O. Box 11350, Salt Lake City, UT 84147-0350, 801-524-4320, Jack Cox

Vermont State Office, City Center, 3rd Floor, 89 Main Street, Montpelier, VT 05602, 802-828-1600, Ronda Shippee

Virginia State Office, Culpeper Building, Suite 238, 1606 Santa Rosa Road, Richmond, VA 23229, 804-287-1550, Carrie Schmidt

Washington State Office, 1835 Black Lake Blvd. SW., Suite B, Olympia, VA 98512-5715, 360-704-7740, Jack Gleason

West Virginia State Office, Federal Building, 75 High Street, Room 320, Morgantown, WV 26505-7500, 304-284-4860, Dianne Crysler

Wisconsin State Office, 4949 Kirschling Court, Stevens Point, WI 54481, 715-345-7600, Mark Brodziski

Wyoming State Office, 100 East B, Federal Building, Room 1005, P.O. Box 820, Casper, WY 82602, 307-261-6300, John Cochran

FOR FURTHER INFORMATION CONTACT: Joseph Ben-Israel, Community Programs, RHS, USDA, STOP 0787, 1400 Independence Ave. SW., Washington, DC 20250-0787, Telephone (202) 720-1490, Facsimile (202) 690-0471, E-mail: jbenisra@rdmail.rural.usda.gov.

SUPPLEMENTARY INFORMATION:

Paperwork Reduction Act

The reporting requirements contained in this notice have been approved by the Office of Management and Budget (OMB) and have been assigned OMB control number 0575-0173 in accordance with the Paperwork Reduction Act (44 U.S.C. 3501 et seq.).

Authorizing Legislation and Regulations

This program is authorized under section 306(a) of the Consolidated Farm and Rural Development Act, as amended by section 304 of the Grain Standards and Warehouse Improvement Act of 2000 (106 Pub. L. 472). Funding was made possible through the Agriculture, Rural Development, Food and Drug Administration and Related Agencies Act 2001 (106 Pub. L. 387) (FY 2001 Appropriation). RHS has decided to administer these funds using, where possible, those same regulations that govern its Community Facilities grant program. Program administration, eligibility, processing, and servicing requirements, which govern the Community Facilities grant program, may be found under 7 CFR part 3570, subpart B.

Background

Under the FY 2000 appropriation, Congress appropriated $47.5 million for a Community Facilities grant program for rural communities with extreme unemployment and severe economic depression, hereafter referred to as the Economic Impact Initiative. These funds are in addition to the Community Facilities grant program's regular allocation of competitive grant funds. The Community Facilities grant program, authorized by Congress in 1996, is used in conjunction with the existing direct and guaranteed loan programs for the development of essential community facilities for public use in rural areas. Funding is intended to complement rather than compete with other credit sources. Grants are made available to public entities, such as municipalities, counties, and special-service districts, as well as to eligible nonprofit corporations and tribal governments. Grants are targeted to communities with the smallest populations and lowest incomes. Communities with lower population and income levels receive a greater percentage of the Federal contribution, between 15 to 75 percent of the cost of developing the facility.

Additional Eligibility Requirements

In addition to those requirements contained in 7 CFR part 3570, subpart B, applicants interested in competing for Economic Impact Initiative funds for FY 2001 must meet the following statutory eligibility criteria by demonstrating extreme unemployment and severe economic depression for funding consideration: the essential community facility must be located in a rural community where the “not employed rate” is greater than 19.5 percent.

Definition of Not Employed Rate

This is the percentage of individuals over the age of 18 who reside within the community and who are ready, willing, and able to be employed but are unable to find employment, as determined by the department of labor of the State in which the community is located.

Allocation of Funds

All Economic Impact Initiative funds will remain in the National Office reserve for funding consideration for FY 2001. Project selections will be on a National competitive basis with project selections made on a monthly basis.

Selection Process

Once a determination has been made by the State Office that an applicant is eligible, the preapplication is evaluated competitively and points awarded as specified in the project selection priorities contained in 7 CFR part 3570, subpart B. The State Director or designee will then forward the request to the National Office to compete for funding consideration. Unless withdrawn by the applicant, projects will then be rated, ranked, and selections made in order of priority. Each proposal will be judged on its own merit. Unless withdrawn by the applicant, projects not selected for funding consideration for a given month will remain eligible to compete for the next month's round of funding selections through the remainder of the fiscal year or until funds are exhausted.

Notice of Invitation To Submit Complete Application

All preapplications selected for funding consideration will be notified by the State or field office by issuing Form AD-622, “Notice of Preapplication Review Action.” At that time, the proposed recipient will be invited to submit a complete application, along with instructions related to the agreed upon award amount, and asked to schedule an application conference to discuss items needed for formal application and to further clarify issues related to the project.

Final Approval and Funding Process

Final approval is subject to the availability of funds; the submission by the applicant of a formal, complete application and related materials that meet the program requirements and responsibilities of the grantee (contained in 7 CFR part 3570, subpart B); the letter of conditions; and the grant agreement.

Those preapplications that do not have sufficient priority necessary to receive funding consideration for FY 2001 will be notified, in writing, by the Agency's State or designated field office.

Dated: February 26, 2001.
James C. Alsop,
Acting Administrator, Rural Housing Service.

[FR Doc. 01-5076 Filed 3-1-01; 8:45 am]

BILLING CODE 3410-XV-U